DEPARTMENT OF COMMERCE

International Trade Administration

[A-405-803]

Purified Carboxymethylcellulose From Finland: Initiation and Preliminary Results of Changed Circumstances Review and Consideration of Revocation of the Antidumping Duty Order

AGENCY: Enforcement and Compliance, International Trade Administration, Department of Commerce.

SUMMARY: In response to a request by Ashland Specialty Ingredients, G.P. (Ashland), and pursuant to section 782(h)(2) of the Tariff Act of 1930, as amended (the Act), 19 CFR 351.222(g)(1)(i) and 19 CFR 351.221(c)(3)(ii), the Department of Commerce (the Department) is initiating a changed circumstances review (CCR) of the antidumping duty (AD) order on purified carboxymethylcellulose (CMC) from Finland. Based on the information received, we preliminarily intend to revoke the Order.¹ Interested parties are invited to comment on these preliminary results.

¹ See Notice of Antidumping Duty Orders: Purified Carboxymethylcellulose from Finland, Mexico, the Netherlands and Sweden, 70 FR 39734 (July 11, 2005) (the Order).

DATES: Effective Date: July 8, 2015.

FOR FURTHER INFORMATION CONTACT: Victoria Cho, or Robert James, AD/CVD Operations, Office VI, Enforcement and Compliance, International Trade Administration, U.S. Department of Commerce, 14th Street and Constitution Avenue NW., Washington, DC 20230; telephone: (202) 482-5075 or (202) 482-0649, respectively.

SUPPLEMENTARY INFORMATION:

Background

On July 11, 2005, the Department published in the Federal Register the AD order on CMC from Finland.² On May 15, 2015, in accordance with sections 751(b) and 751(d)(1) of the Act, 19 CFR 351.216(b), and 19 CFR 351.222(g)(1), Ashland, the petitioner and sole domestic producer of CMC, requested revocation of the Order with respect to Finland as part of a CCR. Ashland requested that the Department conduct the CCR on an expedited basis pursuant to 19 CFR 351.221(c)(3)(ii). On June 8, 2015, CP Kelco Oy and its U.S. affiliate, CP Kelco U.S. Inc., (collectively, CP Kelco), interested parties as a U.S. importer of CMC and sole manufacturer of CMC in Finland, also requested that the outcome of Ashland's CCR request should be the revocation of the AD order on CMC from Finland, due to the lack of interest in continuation of the Order.

² Id.

Scope of the Order

The merchandise covered by these orders is all purified CMC, sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations which, at a minimum, reduce the remaining salt and other by-product portion of the product to less than ten percent.

The merchandise subject to this order is classified in the Harmonized Tariff Schedule of the United States at subheading 3912.31.00. This tariff classification is provided for convenience and customs purposes; however, the written description of the scope of the order is dispositive.

Initiation and Preliminary Results of Changed Circumstances Review

Section 782(h)(2) of the Act and 19 CFR 351.222(g)(1)(i) provide that the Department may revoke an order (in whole or in part) if it determines that producers accounting for substantially all of the production of the domestic like product have no further interest in the order, in whole or in part. In addition, in the event the Department determines that expedited action is warranted, 19 CFR 351.221(c)(3)(ii) permits the Department to combine the notices of initiation and preliminary results.

On May 15, 2015, Ashland requested that the Department conduct the CCR on an expedited basis. On June 8, 2015, CP Kelco filed a letter in support of Ashland's CCR request. Ashland stated that, as the sole U.S. producer of CMC, it accounts for substantially all of the production of the domestic like product. Ashland also stated that it has no interest in the continuation of the Order.³

³ See Ashland's May 15, 2015, submission to the Department.

Therefore, at the request of Ashland and in accordance with sections 751(b)(1) and 751(d)(1) of the Act, 19 CFR 351.216, 19 CFR 351.222(g)(1), and 19 CFR 351.221(c)(3)(ii), we are initiating this CCR on CMC from Finland to determine whether revocation of the Order is warranted with respect to this product. In addition, we determine that expedited action is warranted. In accordance with 19 CFR 351.222(g)(1), we find that the petitioner's affirmative statement of no interest constitutes good cause to conduct this review. Additionally, our decision to expedite this review by combining the notice of initiation and the preliminary results in a single notice pursuant to 19 CFR 351.221(c)(3)(ii), stems from the domestic industry's lack of interest in applying the Order. If the final results of this changed circumstances review result in the revocation of the Order, the Department intends that such revocation will be effective the first day of the most recent period not subject to administrative review, which is currently July 1, 2014.

Public Comment

Pursuant to 19 CFR 351.310(c), any interested party may request a hearing within 14 days of publication of this notice.⁴ Parties will be notified of the time and date of any hearing if requested. Interested parties may submit case briefs and/or written comments not later than 14 days after the publication of this notice. Rebuttal briefs, and rebuttals to written comments, which must be limited to issues raised in such briefs or comments, may be filed not later than 21 days after the date of publication of this notice. Parties who submit case briefs or rebuttal briefs in this changed circumstance review are requested to submit with each argument: (1) A statement of the issue; and (2) a brief summary of the argument; and (3) a table of authorities. Interested parties who wish to comment on the preliminary results must file briefs electronically using Enforcement and Compliance's Antidumping and Countervailing Duty Centralized Electronic Service System (ACCESS). ACCESS is available to registered users at http://access.trade.gov. An electronically-filed document must be received successfully in its entirety by ACCESS by 5 p.m. Eastern Time on the date the document is due.

⁴ See 19 CFR 351.303 for general filing requirements.

If final revocation occurs, we will instruct U.S. Customs and Border Protection to end the suspension of liquidation for the merchandise covered by the revocation on the effective date of the notice of revocation and to release any cash deposit or bond. The current requirement for a cash deposit of estimated AD duties on all subject merchandise will continue unless and until it is modified pursuant to the final results of this changed circumstances review.

This initiation and preliminary results of review notice is published in accordance with sections 751(b)(1) and 777(i)(1) of the Act and 19 CFR 351.216, 351.221(b)(1), (4), and 351.222(g).

Dated: July 1, 2015.
Paul Piquado,
Assistant Secretary for Enforcement and Compliance.

[FR Doc. 2015-16722 Filed 7-7-15; 8:45 am]

BILLING CODE 3510-DS-P